DEPARTMENT OF JUSTICE

Antitrust Division

Notice Pursuant to the National Cooperative Research and Production Act of 1993—Secure Digital Music Initiative

Notice is hereby given that, on December 29, 1 999, pursuant to Section (6a) of the National Cooperative Research and Production Act of 1993, 15 U.S.C. 4301 et seq. (“the Act”), Secure Digital Music Initiative has filed written notifications simultaneously with the Attorney General and the Federal Trade Commission disclosing changes in its membership status. The notifications were filed for the purpose of extending the Act's provisions limiting the recovery of antitrust plaintiffs to actual damages under specified circumstances. Specifically, ZipLabs Pte Ltd, Singapore Science Park II, Singapore; Rowe International, Grand Rapids, MI; Oak Technology, Inc., Sunnyvale, CA; Guillemot Corp., SA, Carentoir, France; Media Tag Limited, Hayes, Middlesex, United Kingdom; MHS SA, Nantes, Cedex 3, France; Mitsubishi Electric Corporation, Hyogo, Japan; Be, Incorporated, Menlo Park, CA; Portland Software, Inc., Portland, OR; Music.co.jp, Inc., Tokyo, Japan; EMDES Systems Company Limited, Tokyo, Japan; Ericsson Mobile Communications, Stockholm, Sweden; Qpass, Seattle, WA; Funai Corporation, Teterboro, NJ; and ARM Limited, Cambridge, United Kingdom have been added as parties to this venture.

No other changes have been made in either the membership or planned activity of the group research project. Membership in this group research project remains open, and Secure Digital Music Initiative intends to file additional written notification disclosing all changes in membership.

On June 28, 1999, Secure Digital Music Initiative filed its original notification pursuant to Section 6(a) of the Act. The Department of Justice published a notice in the Federal Register pursuant to Section 6(b) of the Act on December 2, 1999 (64 FR 67591).

The last notification was filed with the Department on October 4, 1999. A notice has not yet been published in the Federal Register.

Constance K. Robinson,
Director of Operations, Antitrust Division.

[FR Doc. 00-17402 Filed 7-10-00; 8:45 am]

BILLING CODE 4410-11-M